Title 3—

The President

Proclamation 8567 of September 24, 2010

National Hunting and Fishing Day, 2010

By the President of the United States of America

A Proclamation

As Americans, the bond we have with our land is traceable to our earliest ancestors and etched into the character of our Nation. From the rocky shoals of New England to the rugged mountains of the West, the natural beauty and great diversity of our open spaces draw millions to the outdoors every year for sport, play, and relaxation. On National Hunting and Fishing Day, we recognize the Americans who engage in these timeless pursuits, and we reaffirm our commitment to conserving our native lands, waters, and wildlife for generations to come.

Like President Theodore Roosevelt—an enthusiastic hunter and a great conservationist—hunters and anglers value stewardship, often leading efforts to ensure the protection of our Nation’s wildlife, habitats, and waterways. President Roosevelt understood that conservation was essential to preserving our hunting and fishing heritage, and during his Presidency established the first units of the National Wildlife Refuge System to sustain the outdoor traditions many Americans enjoy today. We recognize, as President Roosevelt did over a century ago, that we must champion the conservation of our lands, and those who know them well—the individuals who hunt and fish—must endeavor to be their consummate guardians.

Conservation takes on even greater importance today as our lands, waters, and wildlife face threats from global climate change, loss of habitats, and environmental disasters. The abundance of our wilderness is not limitless and needs protection and restoration. To ensure America’s wild spaces remain healthy and accessible for all to enjoy, outdoorsmen and women can continue to participate in innovative programs such as the Federal Duck Stamp Program to protect and restore our natural legacy. This includes rebuilding and safeguarding our fragile Gulf ecosystem, where the unique and beautiful bounty of waterfowl, fish, and other game confront exceptional hardships.

Following in the footsteps of President Roosevelt and other conservationists, my Administration is dedicated to fostering a national conversation about 21st-century conservation that embraces a broad coalition of Americans, including hunters and anglers. Through my America’s Great Outdoors Initiative, we have heard from sportsmen and women across our country about the value of hunting and fishing, the challenges to wildlife conservation, and how the Federal Government can be a better partner for conservation. My Administration established the Wildlife and Hunting Heritage Conservation Council to enlist the efforts of the sporting community, wildlife conservation organizations, States, and Native American tribes to uphold our Nation’s wildlife heritage and to meet the conservation challenges of our time. We added over 4 million acres to the Conservation Reserve Program this year to provide important wildlife habitats, and we have taken specific steps to benefit gamebirds in this program. In addition, we are providing millions of dollars to the Voluntary Public Access and Habitat Incentive Program, a new effort to encourage hunting, fishing, and other recreational activities on privately owned land.

Our ability to enjoy our land and wildlife today is a tribute to the character of conservationists who have come before us. On National Hunting and Fishing Day, we celebrate the time-honored traditions of hunting and fishing, as well as the preservation of America’s vast natural resources, as we seek to protect them for centuries to come.

NOW, THEREFORE, I, BARACK OBAMA, President of the United States of America, by virtue of the authority vested in me by the Constitution and the laws of the United States, do hereby proclaim September 25, 2010, as National Hunting and Fishing Day. I call upon all Americans to observe this day with appropriate programs and activities.

IN WITNESS WHEREOF, I have hereunto set my hand this twenty-fourth day of September, in the year of our Lord two thousand ten, and of the Independence of the United States of America the two hundred and thirty-fifth.

[FR Doc. 2010-24644

Filed 9-28-10; 11:15 am]

Billing code 3195-W0-P